DEPARTMENT OF THE INTERIOR

Bureau of Indian Affairs

[190A2100DD/AAKC001030/A0A51010.999900]

Proclaiming Certain Lands as Reservation for the Confederated Tribes of the Chehalis Reservation

AGENCY: Bureau of Indian Affairs, Interior.

ACTION: Notice of reservation proclamation.

SUMMARY: This notice informs the public that the Assistant Secretary—Indian Affairs proclaimed approximately 156.97 acres, more or less, an addition to the reservation of the Confederated Tribes of the Chehalis Reservation of Washington on October 12, 2018.

FOR FURTHER INFORMATION CONTACT: Ms. Sharlene Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. These lands are proclaimed to be part of the Confederated Tribes of the Chehalis Reservation, in Thurston and Lewis Counties, Washington.

Confederated Tribes of the Chehalis Reservation,

8 Parcels—Williamette Meridian

Thurston and Lewis Counties, Washington—Legal Descriptions Containing 156.97 Acres, More or Less

Sam Smith (Tract 157-T1214)

The East 528.2 feet of the Northeast quarter of the Northwest quarter of Section 24, Township 15 North, Range 3 West, W.M.; excepting therefrom tract conveyed to State of Washington by deed dated May 25, 1966, and recorded under File No. 743235 and excepting also county road known as Hobson Road (216th Avenue SW) along the South boundary; and also except that portion, if any, that lies within the West half of that part of the Northeast quarter of the Northwest Quarter lying Easterly of Northern Pacific Railway Company right of way.

In Thurston County, Washington.

Containing 15.7 acres more or less.

Ponds Property (Tract 157-T1216)

That portion of the Northeast quarter of the Northwest quarter of Section 24, Township 15 North, Range 3 West, W.M., lying Easterly of right-of-way of Burlington Northern, Inc. (now BNSF Railway Company); except the East 528.2 feet thereof and except the South 1,100 feet as measured along said right-of-way line.

In Thurston County, Washington.

Containing 3.96 acres, more or less.

That part of the Northeast quarter of the Northwest quarter of Section 24, Township 15, Range 3 West, W.M., lying Easterly of the right of way of Northern Pacific Railway Company (now BNSF Railway Company); excepting therefrom the East 528.2 feet of said Northeast quarter of the Northwest quarter; also excepting therefrom that portion conveyed to Glen L. Bigler by instrument recorded October 9 1973 under File No. 899648; also excepting therefrom County Road known as Hobson Road (now 216th Ave. SW).

In Thurston County, Washington.

Containing 11.48 acres, more or less.

Totaling 15.44 acres more or less.

Billie Mills (Tract 157-T1220)

Lot 3 and that portion of Lot 4 lying easterly of Primary State Highway No. 1, of Cooper Place, as recorded in Volume 8 of Plats, page 9; excepting from said Lot 3 that portion of the South 140 feet lying Westerly of a 100 foot right of way of the Chicago, Milwaukee, St. Paul and Pacific Railroad Company; excepting also the right of way of the Chicago, Milwaukee, St. Paul and Pacific Railroad Company and Primary State Highway No. 1; and except the Westerly 30 feet for county road known as Mills Road.

That part of the South 140 feet of Lot 3, and that portion of Lot 4 of Cooper Place, as recorded in Volume 8 of Plats, page 9, lying Westerly of a 100 foot wide right of way of Chicago-Milwaukee Railroad Company; except that portion of said Lot 4 lying within the following described tract: Beginning at the Southwest corner of said Lot 4; thence East along the South line thereof, 1,089 feet; thence North 400.125 feet; thence West to the Westerly line of said Lot 4; thence Southerly along said Westerly line to the point of beginning; except the Westerly 30 feet of said Lots 3 and 4 for County Road known as Benedict Road (Billie Mills Street SW).

That portion of Lot 4 of Cooper Place, as recorded in Volume 8 of Plats, page 9, described as follows: Commencing at the Southwest corner of said Lot 4; thence East along the South line of said Lot 1,089 feet; thence North 400.125; thence West to the Westerly line of said Lot; thence Southeasterly along Westerly line of Lot to the Point of Beginning. Excepting therefrom the Westerly 30 feet.

Situate in the County of Thurston, State of Washington.

Totaling 33.49 acres, more or less.

Big One (Tract 157-T1226)

That portion of Lots 5, 6 and 7 of Cooper Place, as recorded in Volume 8 of Plats, Page 9, lying Westerly of right-of-way of Chicago, Milwaukee, St. Paul and Pacific Railroad Company, ALSO vacated Benedict Road adjacent to said Lots 5, 6, and 7 as described in instrument recorded December 17, 2008 under Auditor's File Number 4050809.

In Thurston County, Washington.

Containing 29.27 acres, more or less.

Middle Bigler (Tract 157-T1230)

That portion of Lot 12 of Cooper Place, as recorded in Volume 8 of Plats, page 9, lying Easterly of former Olympic Highway, except the North 150 feet of said part of Lot 12; together with that portion of vacated county road abutting said Lot 12 which would attach to said premises by operation of law.

Situated in Thurston County, State of Washington.

Containing 3.02 acres, more or less.

Wilson (Tract 157-T1232)

Parcel A: Parcel 1 of Large Lot Subdivision No. LL-0430, as recorded September 10, 1987 under File No. 8709100134. Excepting therefrom that portion conveyed to the State of Washington for highway purposes, by deed recorded under Auditor's File No. 9102040022. Together with those minerals as granted and conveyed by instrument recorded December 11, 2014 under Auditor's File No. 4421044.

Parcel B: An easement for ingress, egress and utilities, over, under and across an existing shared driveway as set out in deed recorded November 4, 2011 under Auditor's File No. 4236425, described as being along the Northerly portion of the Easterly boundary of the following described premises:

Tract 12 and that portion of Tract 9 of Farmdale Addition to Gate City, as recorded in Volume 6 of Plats, page 19, lying South of Rochester Grand Mound Highway; together with the vacated street lying between said tracts and that part of vacated street adjoining Tract 9 on the East.

In Thurston County, Washington.

Containing 26.31 acres, more or less.

Abston (Tract 157-T1235)

Parcel A: The Southwest quarter of the Southeast quarter of Section 13, Township 15 North, Range 3 West, W.M., lying Westerly of Primary State Highway No. 1; EXCEPT the Chicago, Milwaukee, St. Paul and Pacific Railroad right-of-way.

Parcel B: The Northwest quarter of the Northeast quarter of Section 24, Township 15 North, Range 3 West, W.M., lying Westerly of Primary State Highway No. 1; excepting the right-of-way of the Chicago, Milwaukee, St. Paul and Pacific Railroad; also except Hobson Road.

In Thurston County, Washington.

Containing 15.85 acres, more or less.

Pe Ell (Tract 157-T1233)

Beginning at the Southwest corner of the Southeast quarter of the Northwest quarter of Section 23, Township 13 North, Range 5 West, W.M.; thence along the West line of the East half of the Northwest quarter, North 25.6 chains; thence East 12.9 chains to the West boundary line of the right-of-way of the Yakima and Pacific Coast Railroad Company; thence Southerly along said right-of-way 27.53 chains to the South line of the Southeast quarter of the Northwest quarter; thence West on the South boundary of the Southeast quarter of the Northwest quarter, 5.46 chains to the Point of Beginning.

In Lewis County, Washington.

Containing 17.89 acres more or less.

The above described lands contain a total of 156.97 acres, more or less, which are subject to all valid rights, reservations, rights-of-way, and easements of record.

This proclamation does not affect title to the lands described above, nor does it affect any valid existing easements for public roads and highways, public utilities, railroads and pipelines, or any other valid easements or rights-of-way or reservations of record.

Dated: October 12, 2018.
Tara Sweeney,
Assistant Secretary—Indian Affairs.

[FR Doc. 2018-24174 Filed 11-2-18; 8:45 am]

BILLING CODE 4337-15-P